DEPARTMENT OF THE INTERIOR

Fish and Wildlife Service

[FWS-HQ-RF-2014-NXXX; FXRS12630900000-145-FF09R81000]

Information Collection Request Sent to the Office of Management and Budget (OMB) for Approval; National Wildlife Refuge Special Use Permit Applications and Reports

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on June 30, 2014. We may not conduct or sponsor and a person is not required to respond to a collection of information unless it displays a currently valid OMB control number. However, under OMB regulations, we may continue to conduct or sponsor this information collection while it is pending at OMB.

DATES: You must submit comments on or before June 19, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0102” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0102.

Title: National Wildlife Refuge Special Use Permit Applications and Reports, 50 CFR 25, 26, 27, 29, 30, 31, 32, and 36.

Type of Request: Extension of a previously approved collection.

Service Form Numbers: 3-1383-G, 3-1383-C, and 3-1383-R.

Description of Respondents: Individuals and households; businesses and other for-profit organizations; nonprofit organizations; farms; and State, local, or tribal governments.

Respondent's Obligation: Required to obtain or retain a benefit.

Frequency of Collection: On occasion.

Activity | Number of respondents | Number of responses | Completion time per response (in hours) | Total annual burden hours
Form 3-1383-G | 13,630 | 13,630 | ½ | 6,816
Form 3-1383-C | 1,212 | 1,212 | 4 | 4,848
Form 3-1383-R | 303 | 303 | 5 | 1,515
Activity Reports | 606 | 606 | ½ | 303
Totals | 15,751 | 15,751 |  | 13,482

Estimated Annual Nonhour Burden Cost: $121,200 for fees associated with applications for commercial use activities.

Abstract: The National Wildlife Refuge System Administration Act of 1966 (16 U.S.C. 668dd-668ee) (Administration Act), as amended by the National Wildlife Refuge System Improvement Act of 1997, consolidated all refuge units into a single National Wildlife Refuge System (System). It also authorized us to offer visitor and public programs, including those facilitated by commercial visitor and management support services, on lands of the System when we find that the activities are appropriate and compatible with the purpose for which the refuge was established and the System's mission. The Refuge Recreation Act of 1962 (16 U.S.C. 460k-460k-4) (Recreation Act) allows the use of refuges for public recreation when it is not inconsistent or does not interfere with the primary purpose(s) of the refuge. The Alaska National Interest Lands Conservation Act (16 U.S.C. 3101 et seq.) (ANILCA) provides specific authorization and guidance for the administration and management of national wildlife refuges within the State of Alaska. Its provisions provide for the issuance of permits under certain circumstances.

We issue special use permits for a specific period as determined by the type and location of the management activity or visitor service provided. These permits authorize activities such as:

• Agricultural activities (haying and grazing, 50 CFR 29.1 and 29.2).

• Beneficial management tools that we use to provide the best habitat possible on some refuges (50 CFR 30.11, 31.14, 31.16, and 36.41).

• Special events, group visits and other one-time events (50 CFR 25.41, 25.61, 26.36, and 36.41).

• Recreational visitor service operations (50 CFR 25.41, 25.61, and 36.41).

• Guiding for fishing, hunting, wildlife education, and interpretation (50 CFR 25.41 and 36.41).

• Commercial filming (43 CFR 5, 50 CFR 27.71) and other commercial activities (50 CFR 29.1 and 36.41).

• Building and using cabins to support subsistence or commercial activities (in Alaska) (50 CFR 26.35 and 36.41).

• Research, inventory and monitoring, and other noncommercial activities (50 CFR 26.36 and 36.41).

We use three forms to collect applicant information:

• FWS Form 3-1383-G (General Activities Special Use Application).

• FWS Form 3-1383-C (Commercial Activities Special Use Application).

• FWS Form 3-1383-R (Research and Monitoring Special Use Application).

The information we collect helps ensure that: (1) Applicants are aware of the types of information that may be needed for permit issuance; (2) requested activities are appropriate and compatible with the purpose(s) for which the refuge was established and the System's mission; and (3) the applicant is eligible or is the most qualified applicant to receive the special use permit.

We may collect the necessary information in a nonform format (through discussions in person or over the phone, over the Internet, by email, or by letter). In some instances, respondents will be able to provide information verbally. Often, a simple email or letter describing the activity will suffice. For activities (e.g., commercial visitor services, research, etc.) that might have a large impact on refuge resources, we may require applicants to provide more detail on operations, techniques, and locations. Because of the span of activities covered by special use permits and the different management needs and resources at each refuge, respondents may not be required to answer all questions. Depending on the requested activity, refuge managers have the discretion to ask for less information than appears on the forms. However, refuge managers cannot ask for more or different information.

We issue permits for a specific period as determined by the type and location of the use or service provided. We use these permits to ensure that the applicant is aware of the requirements of the permit and his/her legal rights. Refuge-specific special conditions may be required for the permit. We identify conditions as an addendum to the permit. Most of the special conditions pertain to how a permitted activity may be conducted and do not require the collection of information. However, some special conditions, such as activity reports, before and after site photographs, or data sharing, would qualify as an information collection, and we have included the associated burden in the table above.

Public Comments and Our Responses

Comments: On November 13, 2013, we published in the Federal Register (78 FR 68085) a notice of our intent to request that OMB renew approval for this information collection. In that notice, we solicited comments for 60 days, ending on January 13, 2014. We received two comments on this notice.

Comment 1: The respondent objected to the granting of permits for commercial activities on refuge lands and thought there should be an opportunity for public comment.

Response: The Administration Act authorizes us to permit public accommodations, including commercial visitor services, on lands of the System when we find that these activities are compatible and appropriate with the purpose for which the refuge was established. The respondent did not address the information collection, and we did not make any changes to our requirements.

Comment 2: The inclusion of 50 CFR 29.2 would appear improper. 50 CFR 29.2 is in regards to “Cooperative Agreements”; this is not a permitting process, but rather a Grants and Financial Assistance process. The use of permits for Economic Use privileges would appear appropriate for 50 CFR 29.1 wherein it is clear this section is for economic (for profit) use in contrast to 50 CFR 29.2 where it is clear it is for a nonprofit “cooperative agreement” use.

Response: Permits are used to authorize a use on a refuge as described in 50 CFR parts 25 and 26, and Service policy. Cooperative agreements are also administered consistent with appropriate Federal laws, regulations, and policy. Most cooperative farming, as described in 50 CFR 29.2, is managed on a refuge through a cooperative agreement. There may be occasions where it is conducted through a special use permit (e.g., until a cooperative agreement is in place, or where crops are planted to control weeds in a project restoring native plant communities). The respondent did not address the information collection, and we did not make any changes to our requirements.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 14, 2014.
Tina A. Campbell,
Chief, Division of Policy and Directives Management, U.S. Fish and Wildlife Service.

[FR Doc. 2014-11582 Filed 5-19-14; 8:45 am]

BILLING CODE 4310-55-P